DEPARTMENT OF THE INTERIOR

National Park Service

[N6634; NPS-WASO-NAGPRA-NPS0041360; PPWOCRADN0-PCU00RP14.R50000]

Notice of Intended Repatriation: Indianapolis Museum of Art, Inc. D.B.A. Newfields, Indianapolis, IN

AGENCY: National Park Service, Interior.

ACTION: Notice.

SUMMARY: In accordance with the Native American Graves Protection and Repatriation Act (NAGPRA), the Indianapolis Museum of Art, Inc. D.B.A. Newfields intends to repatriate certain cultural items that meet the definition of unassociated funerary objects and that have a cultural affiliation with the Indian Tribes or Native Hawaiian organizations in this notice.

DATES: Repatriation of the cultural items in this notice may occur on or after January 15, 2026.

ADDRESSES: Send additional, written requests for repatriation of the cultural items in this notice to Jennifer Gallatin Rigsby, Indianapolis Museum of Art, Inc. D.B.A. Newfields, 4000 Michigan Road, Indianapolis, IN 46208-3326, email jrigsby@discovernewfields.org.

SUPPLEMENTARY INFORMATION: This notice is published as part of the National Park Service's administrative responsibilities under NAGPRA. The determinations in this notice are the sole responsibility of the Indianapolis Museum of Art, Inc. D.B.A. Newfields, and additional information on the determinations in this notice, including the results of consultation, can be found in the summary or related records. The National Park Service is not responsible for the determinations in this notice.

Abstract of Information Available

A total of 18 cultural items have been requested for repatriation. The 18 unassociated funerary objects are pipes, bannerstone, gorget, stone tools, and projectile points. One of the unassociated funerary object, a shell gorget, was excavated from Hamilton County, Tennessee. One of the unassociated funerary object, a circular shell gorget with scalloped edges, was excavated from Meigs County, Tennessee. One of the unassociated funerary object, a pipe bowl with human face and otter figure, was excavated from Sullivan County, Tennessee. Eleven of the unassociated funerary objects, projectile points, was excavated from Tennessee and Marion County, Kentucky. One of the unassociated funerary objects, a platform pipe, was excavated from Mason County, Kentucky. One of the unassociated funerary objects, a elbow pipe, was excavated from, Etowah County, Alabama. One of the unassociated funerary objects, a elbow pipe, was excavated from Tennessee. One of the unassociated funerary objects, a bannerstone, was excavated from Kentucky.

Determinations

The Indianapolis Museum of Art, Inc. D.B.A. Newfields has determined that:

• The 18 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the Indianapolis Museum of Art, Inc. D.B.A. Newfields must determine the most appropriate requestor prior to repatriation. Requests for joint repatriation of the cultural items are considered a single request and not competing requests. The Indianapolis Museum of Art, Inc. D.B.A. Newfields is responsible for sending a copy of this notice to the Indian Tribes and Native Hawaiian organizations identified in this notice and to any other consulting parties.

Authority: Native American Graves Protection and Repatriation Act, 25 U.S.C. 3004 and the implementing regulations, 43 CFR 10.9.

Dated: November 25, 2025.
Melanie O'Brien,
Manager, National NAGPRA Program.

[FR Doc. 2025-22904 Filed 12-15-25; 8:45 am]

BILLING CODE 4312-52-P